NUCLEAR REGULATORY COMMISSION

[NRC-2009-0448]

Notice of Availability of Final Interim Staff Guidance Document No. 25 “Pressure and Helium Leakage Testing of the Confinement Boundary of Spent Fuel Dry Storage Systems”

AGENCY: Nuclear Regulatory Commission.

ACTION: Notice of availability.

SUMMARY: The Division of Spent Fuel Storage and Transportation (SFST) of the Office of Nuclear Materials Safety and Safeguards (NMSS) is issuing its Interim Staff Guidance Document No. 25 (ISG-25) “Pressure and Helium Leakage Testing of the Confinement Boundary of Spent Fuel Dry Storage Systems.” This ISG supplements standard review plan guidance for evaluating the helium leakage testing and ASME Code required pressure (hydrostatic/pneumatic) testing that is specified for the cask confinement boundary. It specifies the acceptance tests that are necessary to clearly demonstrate that the cask has been fabricated in accordance with the design criteria, and that the operation of the cask complies with the intended safety bases of the confinement system and regulatory requirements. The final ISG-25 is available in the NRC's Agencywide Documents Access and Management System (ADAMS) under the Accession No. ML101970493.

ADDRESSES: The NRC maintains an ADAMS system, which provides text and image files of NRC's public documents. These documents may be accessed through the NRC's Public Electronic Reading Room on the Internet at http://www.nrc.gov/reading-rm/adams.html. If you cannot access ADAMS or if there are any problems accessing documents located in ADAMS, you should contact the NRC Public Document Room reference staff at 1-800-397-4209, 301-415-4737, or by e-mail at pdr.resource@nrc.gov.

FOR FURTHER INFORMATION CONTACT: Mr. Luis Cruz, Division of Spent Fuel Storage and Transportation, Office of Nuclear Materials Safety and Safeguards, U.S. Nuclear Regulatory Commission, Washington, DC 20555-0001; telephone at 301-492-3270 or e-mail at Luis.Cruz@nrc.gov.

SUPPLEMENTARY INFORMATION: The NRC posts its issued staff guidance on the NRC external Web page (http://www.nrc.gov/reading-rm/doc-collections/isg/). A table containing the comments received from external stakeholders and the staff responses to these comments is available in ADAMS under the Accession Number ML101970496.

Dated at Rockville, Maryland, this 18th day of August 2010.
For the Nuclear Regulatory Commission.
Deborah Jackson,
Branch Chief, Thermal and Containment Branch, Division of Spent Fuel Storage and Transportation, Office of Nuclear Materials Safety and Safeguards.

[FR Doc. 2010-21638 Filed 8-30-10; 8:45 am]

BILLING CODE 7590-01-P